COMMISSION ON CIVIL RIGHTS

Agenda and Notice of Public Meeting of the Maine Advisory Committee; Correction

AGENCY: Commission on Civil Rights.

ACTION: Notice; correction.

SUMMARY: The Commission on Civil Rights published a notice in the Federal Register of September 16, 2016, concerning a meeting of the Maine Advisory Committee. The state purpose of the meeting on Tuesday, November 15, 2016, was incorrect. The committee on this date will discuss and vote on its human tracking report.

FOR FURTHER INFORMATION CONTACT: Evelyn Bohor, (202) 376-7533.

Correction

In the Federal Register of September 16, 2016, in FR Doc. 2016-22334, on page 63739, correct the first paragraph to read:

Notice is hereby given, pursuant to the provisions of the rules and regulations of the U.S. Commission on Civil Rights (Commission), and the Federal Advisory Committee Act (FACA), that planning meetings of the Maine Advisory Committee to the Commission will convene by conference call at 1:30 p.m. (ET) on: Tuesday, October 18, 2016; Tuesday, November 15, 2016; Tuesday, December 20, 2016; Tuesday, January, 17, 2017 and Tuesday, February 21, 2017. The purpose of each meeting is to discuss project planning as the Committee moves to selecting a topic as its civil rights project. The Committee will also select additional officers, as necessary. The November 15 meeting will be to discuss and vote on the Committee's report to the Commission on human trafficking in Maine.

Dated: November 1, 2016.
David Mussatt,
Supervisory Chief, Regional Programs Coordination Unit.

[FR Doc. 2016-26687 Filed 11-3-16; 8:45 am]

BILLING CODE P